DEPARTMENT OF HEALTH AND HUMAN SERVICES

Centers for Medicare & Medicaid Services

[Document Identifier: CMS-10165 and CMS-10149]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Application for Participation in the Medicare Care Management Performance Demonstration; Form Number: CMS-10165 (OMB#: 0938-0965); Use: The Medicare Care Management Performance (MCMP) Demonstration and its corresponding Report to Congress are mandated by the section 649 of the Medicare Prescription Drug, Improvement, and Modernization Act of 2003 (MMA). Section 649 of the MMA provides for the implementation of a “pay for performance” demonstration under which Medicare would pay incentive payments to physicians who (1) adopt and use health information technology; and (2) meet established standards on clinical performance measures. This demonstration will be held in four States, Arkansas, California, Massachusetts, and Utah. Providers that are enrolled in the Doctors' Office Quality—Information Technology (DOQ-IT) project are eligible to participate in the demonstration. To enroll in the MCMP Demonstration, a physician/provider must submit an application form. The information collected will be used to assess eligibility for the demonstration; Frequency: Reporting—One-time only; Affected Public: Business or other for-profit; Number of Respondents: 800; Total Annual Responses: 800; Total Annual Hours: 133.

2. Type of Information Collection Request: Extension of a currently approved collection; Title of Information Collection: Health Insurance Reform: Security Standards Final Rule; Form Number: CMS-10149 (OMB#: 0938-0949); Use: The Department of Health and Human Services (HHS) Medicare Program, other Federal agencies operating health plans or providing health care, State Medicaid agencies, private health plans, health care providers, and health care clearinghouses must assure their customers (for example, patients, insured individuals, providers, and health plans) that the integrity, confidentiality, and availability of electronic protected health information they collect, maintain, use, or transmit is protected. The confidentiality of health information is threatened not only by the risk of improper access to stored information, but also by the risk of interception during electronic transmission of the information. The use of the security standards will improve the Medicare and Medicaid programs, other Federal health programs, and private health programs; in addition, it will improve the effectiveness and efficiency of the health care industry in general by establishing a level of protection for certain electronic health information.; Frequency: Recordkeeping and Reporting—On occasion; Affected Public: Business or other for-profit, Not-for-profit institutions, Federal Government, and State, Local or Tribal Government; Number of Respondents: 4,000,000; Total Annual Responses: 4,000,000; Total Annual Hours: 64,539,263.

To obtain copies of the supporting statement and any related forms for these paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on February 6, 2006.

OMB Human Resources and Housing Branch, Attention: Carolyn Lovett, CMS Desk Officer, New Executive Office Building, Room 10235,Washington, DC 20503.

Dated: December 28, 2005.
Michelle Shortt,
Director, Regulations Development Group, Office of Strategic Operations and Regulatory Affairs.

[FR Doc. E6-15 Filed 1-5-06; 8:45 am]

BILLING CODE 4120-01-P